DEPARTMENT OF ENERGY

Federal Energy Regulatory Commission

[Project No. 2489-049]

Green Mountain Power Corporation; Notice Soliciting Scoping Comments

Take notice that the following hydroelectric application has been filed with the Commission and is available for public inspection.

a. Type of Application: Subsequent Minor.

b. Project No.: P-2489-049.

c. Date Filed: October 31, 2022.

d. Applicant: Green Mountain Power Corporation (GMP).

e. Name of Project: Cavendish Hydroelectric Project (Cavendish Project or project).

f. Location: On the Black River, in the town of Cavendish, in Windsor County, Vermont.

g. Filed Pursuant to: Federal Power Act 16 U.S.C. 791(a)-825(r).

h. Applicant Contact: John Tedesco, Green Mountain Power Corporation, 2152 Post Road, Rutland, VT 05701; (802) 655-8753; or john.tedesco@greenmountainpower.com.

i. FERC Contact: Adam Peer at (202) 502-8449; or adam.peer@ferc.gov.

j. Deadline for filing scoping comments: July 21, 2023.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the following on the first page: Cavendish Hydroelectric Project (P-2489-049).

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The application is not ready for environmental analysis at this time.

l. The existing Cavendish Project consists of: (1) a 3,000 foot-long, 10-acre impoundment with a gross storage capacity of 18.4-acre-feet at a normal water surface elevation of 884.13 feet National Geodetic Vertical Datum of 1929; (2) a 111-foot-long concrete gravity dam that consists of: (a) a 90-foot-long by 25-foot-high north spillway section topped with a 6-foot-high inflatable flashboard system; and (b) a 21-foot-long by 6-foot-high south spillway section topped with 2.5-foot-high steel flashboards; (3) an 18-inch wide downstream fish passage chute located on the north side of the spillway; (4) a concrete intake structure equipped with a mechanically operated headgate, and a trash rack with 2-inch clear bar spacing; (5) a 178-foot-long concrete and rock tunnel that carries water from the intake to a penstock; (6) a 6-foot-diameter, 1,090-foot-long steel penstock; (7) a 64-foot-long by 34-foot-wide powerhouse containing three turbine-generator units with a combined capacity of 1.44 megawatts; (8) a 100-foot-long transmission line that runs from the powerhouse to a substation within the project boundary; and (9) appurtenant facilities. The project creates a 1,570-foot-long bypassed reach of the Black River.

The current license requires GMP to: (1) operate the project in run-of-river mode; (2) maintain the impoundment water level no lower than 6 inches below the crest of the flashboards; (3) release a continuous minimum flow of 10 cubic feet per second (cfs) to the bypassed reach; and (4) release overall downstream flows of at least 42 cfs from June 1 to September 30, at least 83 cfs from October 1 to March 31, and at least 332 cfs from April 1 to May 31 when refilling the impoundment after project maintenance or flashboard installation. If inflows are insufficient to meet the downstream flows during impoundment refill, GMP is required to release 90 percent of instantaneous inflow through the turbines. The project generates about 4,864 megawatt-hours annually.

GMP proposes to: (1) continue operating the project in run-of-river mode; (2) maintain a stable impoundment water level at the top of the flashboard crest; (3) continue releasing a continuous minimum flow of 10 cfs to the bypassed reach; and (4) release 90 percent of instantaneous inflow through the turbines at all times when refilling the impoundment.

m. At this time, the Commission has suspended access to the Commission's Public Reference Room. Copies of the application can be viewed on the Commission's website at https://www.ferc.gov using the “eLibrary” link. Enter the project's docket number excluding the last three digits in the docket number field to access the document. For assistance, contact FERC Online Support at FERCOnlineSupport@ferc.gov.

You may also register at https://ferconline.ferc.gov/FERCOnline.aspx to be notified via email of new filings and issuances related to this or other pending projects. For assistance, please contact FERC Online Support at FERCOnlineSupport@ferc.gov.

n. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

o. Scoping Process

Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS. At this time, we do not anticipate holding an on-site scoping meeting. Instead, we are soliciting written comments and suggestions on the preliminary list of issues and alternatives to be addressed in the NEPA document, as described in scoping document 1 (SD1), issued June 21, 2023.

Copies of the SD1 outlining the subject areas to be addressed in the NEPA document were distributed to the parties on the Commission's mailing list and the applicant's distribution list. Copies of SD1 may be viewed on the web at http://www.ferc.gov using the “eLibrary” link. Enter the docket number excluding the last three digits in the docket number field to access the document. For assistance, call 1-866-208-3676 or for TTY, (202) 502-8659.

Dated: June 21, 2023.
Kimberly D. Bose,
Secretary.

[FR Doc. 2023-13603 Filed 6-26-23; 8:45 am]

BILLING CODE 6717-01-P